GENERAL SERVICES ADMINISTRATION

48 CFR Parts 532, 538, and 552

General Services Administration Acquisition Regulation; Federal Supply Schedule Contracts; Acquisition of Information Technology by State and Local Governments Through Federal Supply Schedules; Public Meeting

AGENCIES: Office of Acquisition Policy, General Services Administration (GSA).

ACTION: Notice of meeting.

SUMMARY: The General Services Administration (GSA) is sponsoring a second public meeting to further facilitate an open dialogue between the government and interested parties on the implementation of section 211 of the E-Government Act of 2002. A proposed rule was published in the Federal Register at 68 FR 3220, January 23, 2003. Section 211 authorizes the Administrator of GSA to provide for the use by States or local governments of its Federal Supply Schedule for “automated data processing equipment (including firmware), software, supplies, support equipment, and services (as contained in Federal Supply Classification Code Group 70).”

DATES: The public meeting will be held on March 10, 2003, at 9 a.m. Eastern standard time.

ADDRESSES: The public meeting will be held in the: GSA Training Room, 1931 Jefferson Davis Highway, Crystal Mall Building #3, Room C-43, Arlington, VA 22202.

The closest Metro access is from the Crystal City station.

If you wish to attend the meeting and/or make presentations on the proposed rule, please contact and submit a copy of your presentation by March 6, 2003, to: General Services Administration, Acquisition Policy Division (MVP), 1800 F Street, NW., Room 4033, Attn: Linda Nelson, Washington, DC 20405, Telephone: (202) 501-1900.

Submit electronic presentation materials via e-mail to: meeting.2002-G505@gsa.gov.

Please submit only presentations to this e-mail address and cite Public Meeting 2002-G505 in all correspondence related to this public meeting. The submitted presentations will be the only record of the public meeting. If you intend to have your presentation considered as a public comment on the proposed rule, the presentation must be submitted separately as a public comment as instructed in the proposed rule. (See 68 FR 3220, January 23, 2003.)

FOR FURTHER INFORMATION CONTACT: The Regulatory Secretariat, Room 4035, GS Building, Washington, DC, 20405, (202) 501-4225, for information pertaining to status or publication schedules. The TTY Federal Relay Number for further information is 1-800-877-8973. For clarification of content, contact Ms. Linda Nelson, Procurement Analyst, at (202) 501-1900. Please cite GSAR case 2002-G505.

Special Accommodations

The public meeting is physically accessible to people with disabilities. Request for sign language interpretation or other auxiliary aids should be directed to Mrs. Linda Nelson (202-501-1900) at least 5 days prior to the meeting date.

Dated: February 13, 2003.
Laura G. Smith,
Director, Acquisition Policy Division.

[FR Doc. 03-4053 Filed 2-20-03; 8:45 am]

BILLING CODE 6820-61-P